DEPARTMENT OF ENERGY

Federal Energy Regulatory Commission

Combined Notice of Filings #1

Take notice that the Commission received the following electric corporate filings:

Docket Numbers: EC20-13-000.

Applicants: Electric Energy, Inc., GridLiance HeartLand LLC.

Description: Joint Application Under Section 203 of the Federal Power Act of GridLiance HeartLand LLC, and Electric Energy, Inc.

Filed Date: 11/1/19.

Accession Number: 20191101-5299.

Comments Due: 5 p.m. ET 11/22/19.

Take notice that the Commission received the following electric rate filings:

Docket Numbers: ER20-280-001.

Applicants: Skookumchuck Wind Energy Project, LLC.

Description: Tariff Amendment: Amendment to MBR Authority Application and Initial Baseline Tariff Filing to be effective 12/1/2019.

Filed Date: 11/1/19.

Accession Number: 20191101-5202.

Comments Due: 5 p.m. ET 11/22/19.

Docket Numbers: ER20-293-000.

Applicants: Brickyard Hills Project, LLC.

Description: Tariff Cancellation: Notice of Cancellation of Market-Based Tariff for Brickyard Hills Project to be effective 11/2/2019.

Filed Date: 11/1/19.

Accession Number: 20191101-5276.

Comments Due: 5 p.m. ET 11/22/19.

Docket Numbers: ER20-294-000.

Applicants: Sun Streams, LLC.

Description: § 205(d) Rate Filing: Shared Facilities Common Ownership Agreement to be effective 11/2/2019.

Filed Date: 11/1/19.

Accession Number: 20191101-5280.

Comments Due: 5 p.m. ET 11/22/19.

Docket Numbers: ER20-295-000.

Applicants: Interstate Power and Light Company.

Description: § 205(d) Rate Filing: Interstate Power and Light Company Wholesale Formula Rate Application to be effective 12/31/2019.

Filed Date: 11/1/19.

Accession Number: 20191101-5281.

Comments Due: 5 p.m. ET 11/22/19.

Docket Numbers: ER20-296-000.

Applicants: Wisconsin Power and Light Company.

Description: § 205(d) Rate Filing: Wisconsin Power and Light Company Wholesale Formula Rate Application to be effective 12/31/2019.

Filed Date: 11/1/19.

Accession Number: 20191101-5282.

Comments Due: 5 p.m. ET 11/22/19.

Docket Numbers: ER20-297-000.

Applicants: PJM Interconnection, L.L.C.

Description: Tariff Cancellation: Notice of Cancellation of WMPA/ISA No. 4374/Queue No. AB1-037 to be effective 11/12/2019.

Filed Date: 11/4/19.

Accession Number: 20191104-5034.

Comments Due: 5 p.m. ET 11/25/19.

Docket Numbers: ER20-298-000.

Applicants: PJM Interconnection, L.L.C.

Description: Tariff Cancellation: Notice of Cancellation of WMPA/SA No. 4375; Queue No. AB1-038 to be effective 11/12/2019.

Filed Date: 11/4/19.

Accession Number: 20191104-5054.

Comments Due: 5 p.m. ET 11/25/19.

Docket Numbers: ER20-299-000.

Applicants: Duke Energy Florida, LLC.

Description: Notice of Cancellation of Jurisdictional Agreements of Duke Energy Florida, LLC.

Filed Date: 11/4/19.

Accession Number: 20191104-5061.

Comments Due: 5 p.m. ET 11/25/19.

Docket Numbers: ER20-300-000.

Applicants: PJM Interconnection, L.L.C.

Description: Tariff Cancellation: Notice of Cancellation of WMPA/SA No. 4376/Queue No. AB1-039 to be effective 11/12/2019.

Filed Date: 11/4/19.

Accession Number: 20191104-5073.

Comments Due: 5 p.m. ET 11/25/19.

Take notice that the Commission received the following qualifying facility filings:

Docket Numbers: QF20-202-000.

Applicants: Eco Green Generation LLC.

Description: Form 556 of Eco Green Generation LLC [Clean Power #8].

Filed Date: 11/1/19.

Accession Number: 20191101-5308.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2019.
Nathaniel J. Davis, Sr.,
Deputy Secretary.

[FR Doc. 2019-24421 Filed 11-7-19; 8:45 am]

BILLING CODE 6717-01-P